SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: August 1-31, 2021.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists GF Registration for projects, described below, pursuant to 18 CFR 806, Subpart E for the time period specified above: Grandfathering Registration Under 18 CFR part 806, Subpart E:

1. ITG Cigars Inc.—McAdoo Facility, GF Certificate No. GF-202108180, Banks Township, Carbon County, Pa.; Wells 5 and 6 and consumptive use; Issue Date: August 6, 2021.

2. Bedford Elks Country Club, GF Certificate No. GF-202108181, Bedford Township, Bedford County, Pa.; consumptive use; Issue Date: August 6, 2021.

3. Wise Foods, Inc.—Berwick Facility, GF Certificate No. GF-202108182, Berwick Borough, Columbia County, Pa.; consumptive use; Issue Date: August 6, 2021.

Dated: September 9, 2021.
Jason E. Oyler,
General Counsel and Secretary to the Commission.

[FR Doc. 2021-19768 Filed 9-13-21; 8:45 am]

BILLING CODE 7040-01-P